DEPARTMENT OF TRANSPORTATION

Federal Aviation Administration

14 CFR Part 39

[Docket No. FAA-2011-0823; Directorate Identifier 2011-SW-018-AD; Amendment 39-16765; AD 2011-17-01]

RIN 2120-AA64

Airworthiness Directives; Agusta S.p.A. Model A109A, A109A II, A109C, and A109K2 Helicopters

AGENCY: Federal Aviation Administration (FAA), DOT.

ACTION: Final rule; request for comments.

SUMMARY: This amendment supersedes an existing emergency airworthiness directive (EAD) for the specified Agusta S.p.A. (Agusta) model helicopters. That EAD currently requires inspecting the main rotor scissor fitting assembly to determine if there are 2 washers installed under the head of each main rotor scissor fitting assembly fixing bolt (fixing bolt). If there are not 2 washers installed under the head of each fixing bolt, that EAD requires replacing each fixing bolt and installing 2 washers under the head of each fixing bolt. This superseding airworthiness directive (AD) is prompted by the determination that a wrong part number (P/N) for the main rotor scissor fitting assembly was listed in the EAD. This AD retains the requirements of the EAD and corrects a P/N for the main rotor scissor fitting assembly. The actions specified by this AD are intended to prevent a crack in a fixing bolt, failure of a fixing bolt, and subsequent loss of control of the helicopter.

DATES: Effective September 12, 2011.

The incorporation by reference of certain publications listed in the regulations is approved by the Director of the Federal Register as of September 12, 2011.

Comments for inclusion in the Rules Docket must be received on or before October 25, 2011.

ADDRESSES: Use one of the following addresses to submit comments on this AD:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this AD from Agusta Westland, Customer Support & Services, Via Per Tornavento 15, 21019 Somma Lombardo (VA) Italy, ATTN: Giovanni Cecchelli; telephone 39- 0331-711133; fax 39 0331 711180; or at http://www.agustawestland.com/technical-bullettins.

Examining the Docket: You may examine the docket that contains the AD, any comments, and other information on the Internet at http://www.regulations.gov, or in person at the Docket Operations office between 9 a.m. and 5 p.m., Monday through Friday, except Federal holidays. The Docket Operations office (telephone (800) 647-5527) is located in Room W12-140 on the ground floor of the West Building at the street address stated in the ADDRESSES section. Comments will be available in the AD docket shortly after receipt.

FOR FURTHER INFORMATION CONTACT: DOT/FAA Southwest Region, Sharon Miles, Aviation Safety Engineer, Rotorcraft Directorate, Regulations and Policy Group, ASW-111, 2601 Meacham Blvd., Fort Worth, Texas 76137, telephone (817) 222-5122, fax (817) 222-5961.

SUPPLEMENTARY INFORMATION:

Discussion

On January 13, 2010, we issued EAD 2010-02-51 for the Agusta Model A109A, A109A II, A109C, and A109K2 helicopters, which requires, within 5 hours time-in-service (TIS), inspecting the main rotor scissor fitting assembly, P/N 109-0110-67 and P/N 109-0110-58, to determine if there were 2 washers installed under the head of each fixing bolt, P/N 109-0101-78-5. That action was prompted by an incident where 2 of the 3 installed fixing bolts on a Model A109K2 helicopter had cracked in flight. The manufacturer's investigation revealed that the crack was caused by inadequate information in the technical publication for installing the fixing bolts. This condition, if not detected and corrected, could result in failure of a fixing bolt and subsequent loss of control of the helicopter.

Since issuing EAD 2010-02-51, we have determined that the EAD contains an incorrect P/N for the main rotor scissor fitting assembly as listed in paragraph (a) of the Compliance section. The EAD states P/N “109-0110-58” and the correct P/N is “109-0101-58”. Therefore, we are issuing this superseding AD to correct a P/N for the main rotor scissor fitting assembly.

The European Aviation Safety Agency (EASA), which is the Technical Agent for the Member States of the European Union, has issued EASA Emergency AD 2009-0274-E, dated December 18, 2009 (EAD 2009-0274-E) to correct an unsafe condition for the Agusta Model A109A, A109A II, A109C, and A109K2 model helicopters. EASA states that failure of the fixing bolt “might lead to loss of control of the helicopter.”

Related Service Information

Agusta has issued Mandatory Alert Bollettino Tecnico (BT) No. 109K-53 for Model A109K2 helicopters and Mandatory Alert BT No. 109-131 for Model A109A, A109A II, and A109C helicopters, both dated December 18, 2009. The BTs specify a one-time inspection for correct installation of the main rotor scissor fitting assembly by determining if 2 washers are installed under the head of each fixing bolt. If 2 washers are not installed under the head of each fixing bolt, the BTs specify replacing each fixing bolt with an airworthy fixing bolt and installing 2 washers under the head of each fixing bolt. EASA classified this service bulletin as mandatory and issued EAD No. 2009-0274-E to ensure the continued airworthiness of these helicopters.

FAA's Evaluation and Unsafe Condition Determination

These helicopters have been approved by the aviation authority of Italy, and are approved for operation in the United States. Pursuant to our bilateral agreement with Italy, EASA, their technical representative, has notified us of the unsafe condition described in the EASA emergency AD. We are issuing this superseding AD because we evaluated all information provided by EASA and determined the unsafe condition exists and is likely to exist or develop on other helicopters of these same type designs. Therefore, this AD is being issued to prevent a crack in a fixing bolt, failure of a fixing bolt, and subsequent loss of control of the helicopter. This AD requires, within 5 hours TIS, inspecting the main rotor scissor fitting assembly to determine if there are two washers installed under the head of each fixing bolt. If 2 washers are not installed under the head of each fixing bolt, this AD requires, within 25 hours TIS after making that determination, replacing all 3 fixing bolts and installing 2 washers under the head of each fixing bolt. The actions must be accomplished by following specified portions of the previously described service bulletins.

The short compliance time involved is required because the previously described critical unsafe condition can adversely affect the structural integrity and controllability of the helicopter. Therefore, because these actions are required within a very short period of time, this AD must be issued immediately.

Since a situation exists that requires the immediate adoption of this regulation, it is found that notice and opportunity for prior public comment hereon are impracticable because of the short compliance time, and that good cause exists for making this amendment effective in less than 30 days.

Differences Between This AD and the EASA AD

This AD differs from the EASA AD in that EASA uses the term “flight hours” when referring to compliance times, and we use the term “hours time-in-service”. Also, after complying with paragraph (a) of this AD, we require the fixing bolts to be replaced within 25 hours TIS, and the EASA AD requires the fixing bolts to be replaced within 25 flight hours after the effective date of the AD or by April 30, 2010.

Costs of Compliance

We estimate that this AD will affect 79 helicopters of U.S. registry. Each inspection will take about 15 minutes, and replacing a fixing bolt will take about 3 hours. The average labor rate is $85 per work-hour. Required parts will cost approximately $153 per helicopter for the bolts and washers. Based on these figures, we estimate the total cost on U.S. operators to be $4,943, assuming that each helicopter is inspected and that 8 helicopters require replacement of the 3 bolts and 6 washers.

Comments Invited

This AD is a final rule that involves requirements that affect flight safety and was not preceded by notice and an opportunity for public comment; however, we invite you to submit any written data, views, or arguments regarding this AD. Send your comments to an address listed under ADDRESSES. Include “Docket No. FAA-2011-0823; Directorate Identifier 2011-SW-018-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact with FAA personnel concerning this AD. Using the search function of the docket Web site, you can find and read the comments to any of our dockets, including the name of the individual who sent the comment. You may review the DOT's complete Privacy Act Statement in the Federal Register published on April 11, 2000 (65 FR 19477-78).

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD. See the AD docket to examine the economic evaluation.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for Part 39 continues to read as follows:

Authority: 49 U.S.C. 106(g), 40113, 44701.

§ 39.13 [Amended]

2. The FAA amends § 39.13 by adding a new airworthiness directive (AD) to read as follows:

2011-17-01 AGUSTA S.p.A. (Agusta): Amendment 39-16765; Docket No. FAA-2011-0823; Directorate Identifier 2011-SW-018-AD; supersedes Emergency AD 2010-02-51, issued January 13, 2010.

Applicability: Model A109A, A109A II, A109C, and A109K2 helicopters, certificated in any category.

Compliance: Required as indicated, unless accomplished previously.

To prevent a crack in a main rotor scissor fitting assembly fixing bolt (fixing bolt), failure of a fixing bolt, and subsequent loss of control of the helicopter, accomplish the following:

(a) Within 5 hours time-in-service (TIS), inspect the main rotor scissor fitting assembly, part number (P/N) 109-0110-67 or P/N 109-0101-58, to determine if there are 2 washers, P/N NAS1149C0432R and P/N NAS1149C0463R, installed under the head of each fixing bolt, P/N 109-0101-78-5, as depicted in Figure 1 of Agusta Mandatory Alert Bollettino Tecnico (BT) No. 109K-53 for Model A109K2 helicopters, and Mandatory Alert BT No. 109-131 for Model A109A, A109A II, and A109C helicopters, both dated December 18, 2009.

(b) If 2 washers are not installed under the head of each fixing bolt, within 25 hours TIS of complying with paragraph (a) of this AD, replace each fixing bolt and install 2 washers under the head of each fixing bolt as depicted in Figures 1 and 2, and by following the Compliance Instructions, Part II, paragraphs 1. through 3.5., of the BT for your helicopter.

(c) To request a different method of compliance or a different compliance time for this AD, follow the procedures in 14 CFR 39.19. Contact the Manager, Safety Management Group, ATTN: DOT/FAA Southwest Region, Sharon Miles, Aviation Safety Engineer, Rotorcraft Directorate, ASW-111, 2601 Meacham Blvd., Fort Worth, Texas 76137, telephone (817) 222-5122, fax (817) 222-5961, for information about previously approved alternative methods of compliance.

(d) The Joint Aircraft System/Component Code is 6220: Main Rotor Head.

(e) The inspection and replacement shall be done in accordance with the specified portions of Agusta Mandatory Alert Bollettino Tecnico No. 109K-53 or Agusta Mandatory Alert Bollettino Tecnico No. 109-131, both dated December 18, 2009. The Director of the Federal Register approved this incorporation by reference in accordance with 5 U.S.C. 552(a) and 1 CFR part 51. Copies may be obtained from Agusta Westland, Customer Support & Services, Via Per Tornavento 15, 21019 Somma Lombardo (VA) Italy, ATTN: Giovanni Cecchelli; telephone 39-0331-711133; fax 39 0331 711180; or at http://www.agustawestland.com/technical-bullettins. Copies may be inspected at the FAA, Office of the Regional Counsel, Southwest Region, 2601 Meacham Blvd., Room 663, Fort Worth, Texas or at the National Archives and Records Administration (NARA). For information on the availability of this material at NARA, call 202-741-6030, or go to: http://www.archives.gov/federal_register/code_of_federal_regulations/ibr_locations.html.

(f) This amendment becomes effective on September 12, 2011.

Note: The subject of this AD is addressed in European Aviation Safety Agency (Italy) AD No. 2009-0274-E, dated December 18, 2009.

Issued in Fort Worth, Texas, on July 29, 2011.
Kim Smith,
Manager, Rotorcraft Directorate, Aircraft Certification Service.

[FR Doc. 2011-21476 Filed 8-25-11; 8:45 am]

BILLING CODE 4910-13-P